NATIONAL SCIENCE FOUNDATION

Notice of Intent To Seek Approval To Reinstate With Changes an Expired Information Collection

AGENCY: National Science Foundation.

ACTION: Notice and request for comments.

SUMMARY: The National Science Foundation (NSF) is announcing plans to request clearance of this collection. In accordance with the requirement of section 3506(c)(2)(A) of the Paperwork Reduction Act of 1995 (Pub. L. 104-13), we are providing opportunity for public comment on this action. After obtaining and considering public comment, NSF will prepare the submission requesting that OMB approve clearance of this collection for no longer than 1 year.

DATES: Written comments on this notice must be received by September 7, 2006 to be assured of consideration. Comments received after that date will be considered to the extent practicable.

FOR FURTHER INFORMATION CONTACT: Suzanne Plimpton, Reports Clearance Officer, National Science Foundation, 4201 Wilson Boulevard, Suite 295, Arlington, Virginia 22230; telephone (703) 292-7556; or send e-mail to splimpto@nsf.gov. Individuals who use a telecommunications device for the deaf (TDD) may call the Federal Information Relay Service (FIRS) at 1-800-877-8339 between 8 a.m. and 8 p.m., Eastern time, Monday through Friday. You may obtain a copy of the data collection instrument and instructions from Ms. Plimpton.

SUPPLEMENTARY INFORMATION: Title of Collection: Evaluation of the National Science Foundation—National Institutes for Health Bioengineering and Bioinformatics Summer Institutes (BBSI) Program.

OMB Number: 3145-0121.

Expiration Date of Approval: One year.

Type of Request: Reinstate and modify.

Abstract: The National Science Foundation (NSF) and the National Institute of Bioinformatics and Bioengineering (NIBIB), a new component of the National Institutes of Health, established a jointly funded program run by NSF called the Bioengineering and Bioinformatics Summer Institutes (BBSI) Program to begin creating a supply of professionals trained in bioengineering and bioinformatics. This workforce initiative complements research and education efforts in these fields funded by both agencies and constitutes a high profile effort to meet the anticipated human resource needs for bioengineering and bioinformatices.

The program is designed to provide students majoring in the biological sciences, computer sciences, engineering, mathematics, and physical sciences with well planned interdisciplinary experiences in bioengineering or bioinformatics research and education, in very active `Summer Institutes'; thereby increasing the number of young people considering careers in bioengineering and bioinformatics at the graduate level and beyond.

NIBIB and NSF's Division of Engineering Education and Centers (EEC) wish to learn whether the BBSI Program as originally conceived is achieving its objectives and program-level outcomes, and to collect lessons learned for improvement of program design and implementation. This short-term evaluation is expected to provide information on what educational and career decisions have ben affected by participation in a Summer Institute, what elements of the students' BBSI affect student outcomes, and how the program can be improved, e.g., through changes in specific program-wide design components, expected outcomes, proposal review criteria, etc.

The survey data collection will be done on the World Wide Web.

Estimate of Burden: Public reporting burden for this collection of information is estimated to average 30 minutes per response.

Respondents: Individuals.

Estimated Number of Responses per Form: 800.

Estimated Total Annual Burden on Respondents: 400 hours (880 respondents at 30 minutes per response).

Frequency of Response: Once.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; (d) ways to minimize the burden of the collection of information on those who are to respond, including through the use of appropriate automated, electronic, mechanical or other technological collection techniques or other forms of information technology.

Dated: June 30, 2006.
Catherine J. Hines,
Acting Reports Clearance Officer, National Science Foundation.

[FR Doc. 06-6008 Filed 7-5-06; 8:45 am]

BILLING CODE 7555-01-M